DEPARTMENT OF LABOR

Employment and Training Administration

Workforce Investment Act of 1998 (WIA); Notice of Incentive Funding Availability Based on Program Year (PY) 2010 Performance

AGENCY: Employment and Training Administration, Labor.

ACTION: Notice.

SUMMARY: The Department of Labor, in collaboration with the Department of Education, announces that eight states are eligible to apply for Workforce Investment Act (WIA) (Pub. L. 105-220, 29 U.S.C. 2801 et seq.) incentive grant awards authorized by section 503 of the WIA.

DATES: The eight eligible states must submit their applications for incentive funding to the Department of Labor by July 9, 2012.

ADDRESSES: Submit applications to the Employment and Training Administration, Office of Policy Development and Research, Division of Strategic Planning and Performance, 200 Constitution Avenue NW., Room N-5641, Washington, DC 20210, Attention: Karen Staha and Luke Murren. Telephone number: 202-693-3733 (this is not a toll-free number). Fax: 202-693-2766. Email: staha.karen@dol.gov and murren.luke@dol.gov. Information may also be found at the ETA Performance Web site: http://www.doleta.gov/performance.

SUPPLEMENTARY INFORMATION: Eight states (see Appendix) qualify to receive a share of the $10.4 million available for incentive grant awards under WIA section 503. These funds, which were contributed by the Department of Education from appropriations for the Adult Education and Family Literacy Act (AEFLA), are available for the eligible states to use through June 30, 2014, to support innovative workforce development and education activities that are authorized under title IB (Workforce Investment Systems) or title II (AEFLA) of WIA, or under the Carl D. Perkins Career and Technical Education Act of 2006 (Perkins IV), 20 U.S.C. 2301 et seq., as amended by Public Law 109-270. In order to qualify for a grant award, a state must have exceeded its performance levels for WIA title IB and adult education (AEFLA). (Due to the lack of availability of PY 2010 performance data under the Carl D. Perkins Vocational and Technical Education Act of 1998 (Perkins III), the Department of Labor and the Department of Education did not consider states' performance levels under the Perkins Act in determining incentive grants eligibility.) The goals included employment after training and related services, retention in employment, and improvements in literacy levels, among other measures. After review of the performance data submitted by states to the Department of Labor and to the Department of Education, each Department determined for its program(s) which states exceeded their performance levels (the Appendix at the bottom of this notice lists the eligibility of each state by program). These lists were compared, and states that exceeded their performance levels for both programs are eligible to apply for and receive an incentive grant award. The amount that each state is eligible to receive was determined by the Department of Labor and the Department of Education, based on the provisions in WIA section 503(c) (20 U.S.C. 9273(c)), and is proportional to the total funding received by these states for WIA title IB and AEFLA programs.

The states eligible to apply for incentive grant awards and the amounts they are eligible to receive are listed in the following chart:

State | Award
Arizona | $1,301,336
Arkansas | 970,974
Kentucky | 1,178,136
Louisiana | 1,098,228
Minnesota | 1,099,840
New Hampshire | 824,616
Tennessee | 1,322,906
Texas | 2,651,995

Signed in Washington, DC, on this 18st day of May 2012.
Jane Oates,
Assistant Secretary for Employment and Training.

APPENDIX
State | Incentive grants PY 2010/FY 2011 Exceeded state performance levels: WIA (Title IB) | Incentive grants PY 2010/FY 2011 Exceeded state performance levels: AEFLA (adult education) | Incentive grants PY 2010/FY 2011 Exceeded state performance levels: WIA Title IB; AEFLA
Alabama |  |  |
Alaska |  |  |
Arizona | X | X | X
Arkansas | X | X | X
California |  | X |
Colorado | X |  |
Connecticut |  |  |
District of Columbia |  |  |
Delaware |  | X |
Florida |  |  |
Georgia | X |  |
Hawaii | X |  |
Idaho |  | X |
Illinois |  |  |
Indiana |  |  |
Iowa |  |  |
Kansas |  |  |
Kentucky | X | X | X
Louisiana | X | X | X
Maine |  |  |
Maryland | X |  |
Massachusetts | X |  |
Michigan | X |  |
Minnesota | X | X | X
Mississippi | X |  |
Missouri |  | X |
Montana |  |  |
Nebraska |  |  |
Nevada |  |  |
New Hampshire | X | X | X
New Jersey | X |  |
New Mexico |  | X |
New York |  | X |
North Carolina |  | X |
North Dakota | X |  |
Ohio |  | X |
Oklahoma |  | X |
Oregon |  |  |
Pennsylvania |  |  |
Puerto Rico |  |  |
Rhode Island |  | X |
South Carolina |  |  |
South Dakota |  |  |
Tennessee | X | X | X
Texas | X | X | X
Utah |  | X |
Vermont |  |  |
Virginia |  |  |
Washington |  |  |
West Virginia |  |  |
Wisconsin |  |  |
Wyoming |  |  |
States in bold exceeded their performance levels for both AEFLA and WIA Title IB programs.

[FR Doc. 2012-12772 Filed 5-24-12; 8:45 am]

BILLING CODE 4510-FN-P